SMALL BUSINESS ADMINISTRATION

Minnesota District Advisory Council; Public Meeting

The U.S. Small Business Administration Region V Minnesota District Advisory Council, located in the geographical area of Minneapolis, Minnesota, will be holding a public meeting at 11:30 a.m. central time on Wednesday, February 5, 2003, at the Business Information Center, 2324 University Avenue, Suite 112, St. Paul, MN 55114, to discuss such matters as may be presented by members, staff of the Small Business Administration, or others present.

Anyone wishing to make an oral presentation to the Board must contact Edward A. Daum, District Director, in writing by letter or fax no later than January 29, 2003, in order to be put on the agenda. Edward A. Daum, District Director, U.S. Small Business Administration, 100 N. 6th Street, Suite 210-C, Minneapolis, MN 55403, (612) 370-2306 phone, (613) 370-2303 fax.

Candace Stoltz,
Director of Advisory Councils.

[FR Doc. 03-892 Filed 1-15-03; 8:45 am]

BILLING CODE 8025-01-P